DEPARTMENT OF COMMERCE

National Institute of Standards and Technology

Announcing a Meeting of the Information Security and Privacy Advisory Board

AGENCY: National Institute of Standards and Technology, Commerce.

ACTION: Notice.

SUMMARY: Pursuant to the Federal Advisory Committee Act, 5 U.S.C. App., notice is hereby given that the Information Security and Privacy Advisory Board (ISPAB) will meet Wednesday, April 7, 2010, from 9 a.m. until 5 p.m., Thursday, April 8, 2010, from 8:30 a.m. until 5 p.m., and Friday, April 9, 2010 from 8 a.m. until 12:30 p.m. All sessions will be open to the public.

DATES: The meeting will be held on Wednesday, April 7, 2010, from 9 a.m. until 5 p.m., Thursday, April 8, 2010, from 8:30 a.m. until 5 p.m., and Friday, April 9, 2010 from 8 a.m. until 12:30 p.m.

ADDRESSES: The meeting will take place at Washington Marriott Wardman Park Conference Center, 2660 Woodley Road, NW., Washington, DC.

FOR FURTHER INFORMATION CONTACT: Ms. Pauline Bowen, ISPAB Secretariat, Information Technology Laboratory, National Institute of Standards and Technology, 100 Bureau Drive, Stop 8930, Gaithersburg, MD 20899-8930, telephone: (301) 975-2938.

SUPPLEMENTARY INFORMATION: The ISPAB was established by the Computer Security Act of 1987 (Pub. L. 100-235) and amended by the Federal Information Security Management Act of 2002 (Pub. L. 107-347) to advise the Secretary of Commerce, the Director of NIST, and the Director of OMB on information security and privacy issues pertaining to Federal government information systems. Details regarding the ISPAB's activities are available at http://csrc.nist.gov/groups/SMA/ispab/index.html/.

Agenda:

—Cloud Computing Implementations

—Health IT

—OpenID

—Pending Cyber Security Legislation

—NIST Issues—research, key escrow, SCAP, common criteria

—OMB Update/Metrics

—Update from NIST FY10 Activities

—Cyber Coordinator Discussion

—National Protection and Programs Directorate Discussion

—Security Issues in Broadband Plan

Note that agenda items may change without notice because of possible unexpected schedule conflicts of presenters. The final agenda will be posted on the website indicated above.

Public Participation: The ISPAB agenda will include a period of time, not to exceed thirty minutes, for oral comments from the public (Thursday April 8, 2009, at 3-3:30 p.m.). Each speaker will be limited to five minutes. Members of the public who are interested in speaking are asked to contact the ISPAB Secretariat at the telephone number indicated above. The board is interested in public comments on the agenda as a whole with specific interest in the following topics due to their impact on information security and privacy as new technologies, potential areas of success for the US Government if conducted properly and their current significant relevance to the Federal Government. Approximately 15 seats will be available for the public and media.

—OpenID

—Cloud Computing Implementations

—Security Issues in Broadband Plan

—NIST Issues—research, key escrow, SCAP, common criteria

In addition, written statements are invited and may be submitted to the ISPAB at any time. Written statements should be directed to the ISPAB Secretariat, Information Technology Laboratory, 100 Bureau Drive, Stop 8930, National Institute of Standards and Technology, Gaithersburg, MD 20899-8930.

Dated: March 1, 2010.
Marc G. Stanley,
Acting Deputy Director.

[FR Doc. 2010-6075 Filed 3-18-10; 8:45 am]

BILLING CODE 3510-13-P